DEPARTMENT OF TRANSPORTATION

Federal Aviation Administration

14 CFR Parts 71

[Docket FAA No. FAA-2013-0505; Airspace Docket No. 13-AWP-4]

Amendment of Class D Airspace; El Monte, CA

AGENCY: Federal Aviation Administration (FAA), DOT.

ACTION: Final rule; correction.

SUMMARY: This action corrects a final rule published in the Federal Register of May 14, 2013, that amends Class D airspace at El Monte Airport, El Monte, CA. In that rule, the legal description references the airport bearing incorrectly.

DATES: Effective Date: 0901 UTC, August 22, 2013. The Director of the Federal Register approves this incorporation by reference action under 1 CFR part 51, subject to the annual revision of FAA Order 7400.9 and publication of conforming amendments.

FOR FURTHER INFORMATION CONTACT: Rick Roberts, Federal Aviation Administration, Operations Support Group, Western Service Center, 1601 Lind Avenue SW., Renton, WA 98057; telephone (425) 203-4517.

SUPPLEMENTARY INFORMATION:

History

The FAA published a final rule in the Federal Register amending Class D airspace at El Monte Airport, El Monte, CA (78 FR 28132, May 14, 2013). In the regulatory text, the El Monte Airport 097° bearing was incorrect, and is now corrected to the 111° bearing.

Correction to Final Rule

Accordingly, pursuant to the authority delegated to me, the legal description as published in the Federal Register on May 14, 2013 (78 FR 28132), Airspace Docket No. 11-AWP-16, FR Doc. 2013-11182, is corrected as follows:

§ 71.1 [Amended]

On page 28133, column 1, line 41, remove `097° bearing', and insert `111° bearing'.

Issued in Seattle, Washington, on June 17, 2013.
Clark Desing,
Manager, Operations Support Group, Western Service Center.

[FR Doc. 2013-15137 Filed 6-25-13; 8:45 am]

BILLING CODE 4910-13-P